DEPARTMENT OF DEFENSE

Office of the Secretary

[Docket ID DOD-2017-OS-0010]

Submission for OMB Review; Comment Request

ACTION: Notice.

SUMMARY: The Department of Defense has submitted to OMB for clearance, the following proposal for generic collection of information under the provisions of the Paperwork Reduction Act.

DATES: Consideration will be given to all comments received by August 25, 2017.

FOR FURTHER INFORMATION CONTACT: Fred Licari, 571-372-0493.

SUPPLEMENTARY INFORMATION:

Title; Associated Form; and OMB Number: Regular Generic Clearance for the Collection of NGA Customer Satisfaction Strategy Survey; OMB Control Number 0704-XXXX.

Needs and Uses: The information collection requirement is necessary to garner qualitative and quantitative customer and stakeholder feedback in an efficient and timely manner and is motivated by the Administration's commitment to improving service delivery. This feedback will provide insights into customer or stakeholder perceptions, experiences and expectations, early warning of issues with service, and otherwise focus attention on areas where communication, training or changes in operations might improve delivery of products or services.

Type of Review: New.

Affected Public: Individuals or households.

Estimated Number of Annual Respondents: 29,285.

Average Expected Annual Number of Activities: 8.

Below we provide projected average estimates for the next three years:

Average Number of Respondents per Activity: 500.

Responses per Respondent: 1.

Annual Responses: 29,285.

Average Burden per Response: 13.89 minutes.

Annual Burden Hours: 6,779.5 hours.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: July 21, 2017.
Aaron Siegel,
Alternate OSD Federal Register Liaison Officer, Department of Defense.

[FR Doc. 2017-15684 Filed 7-25-17; 8:45 am]

BILLING CODE 5001-06-P